FEDERAL MINE SAFETY AND HEALTH REVIEW COMMISSION

Sunshine Act Meeting

October 30, 2000.

TIME AND DATE: 2 p.m., Thursday, November 9, 2000.

PLACE: Room 6005, 6th Floor, 1730 K Street, NW., Washington, DC.

STATUS: Open.

MATERS TO BE CONSIDERED: The Commission will consider and act upon the following:

1. Target Industries, Inc., Docket Nos. PENN 97-170, etc. (Issues include whether the Secretary of Labor reasonably interpreted her regulations for main mine fans as applying to any fan whose shutdown would immediately impact mine or section ventilation, whether the operator was provided sufficient notice of the Secretary's interpretation of those regulations, and whether substantial evidence supports the judge's conclusion that the operator's bleeder fans constituted main mine fans within the meaning of the Secretary's interpretation).

TIME AND DATE: 2 p.m., Thursday, November 30, 2000.

PLACE: Room 6005, 6th Floor, 1730 K Street, NW., Washington, DC.

STATUS: Open.

MATTERS TO BE CONSIDERED: The Commission will consider and act upon the following:

1. Excel Mining LLC, Docket Nos. KENT 99-171-R, etc. (Issues include whether the Secretary of Labor can determine compliance with the respirable dust standard for underground coal mines based on an average of multiple samples taken during a single shift).

TIME AND DATE: 2 p.m., Thursday, December 7, 2000.

PLACE: Room 6005, 6th Floor, 1730 K Street, NW., Washington, DC.

STATUS: Open.

MATTERS TO BE CONSIDERED: The Commission will consider and act upon the following:

1. Virginia Slate Co., Docket No. VA 99-8-M (Issues include whether the judge erred in finding that violations were not due to the operator's unwarrantable failure.).

Any person attending an open meeting who requires special accessibility features and/or auxiliary aids, such as sign language interpreters, must inform the Commission in advance of those needs. Subject to 29 CFR 2706.150(a)(3) and 2706.160(d).

CONTACT PERSON FOR MORE INFO: Jean Ellen (202) 653-5629/(202) 708-9300 for TDD Relay/1-800-877-8339 for toll free.

[FR Doc. 00-28444 Filed 11-1-00; 3:43 pm]

BILLING CODE 6735-01-M